DEPARTMENT OF THE INTERIOR

National Park Service

[NPS-WASO-NAGPRA-NPS0039961; PPWOCRADN0-PCU00RP14.R50000]

Notice of Inventory Completion: U.S. Department of the Interior, Fish and Wildlife Service, Ridgefield National Wildlife Refuge Complex, Ridgefield, WA

AGENCY: National Park Service, Interior.

ACTION: Notice.

SUMMARY: In accordance with the Native American Graves Protection and Repatriation Act (NAGPRA), the U.S. Department of the Interior, Fish and Wildlife Service, Ridgefield National Wildlife Refuge Complex has completed an inventory of human remains and associated funerary objects and has determined that there is a cultural affiliation between the human remains and associated funerary objects and Indian Tribes or Native Hawaiian organizations in this notice.

DATES: Repatriation of the human remains and associated funerary objects in this notice may occur on or after May 19, 2025.

ADDRESSES: Eric Anderson, U.S. Fish and Service, Ridgefield National Wildlife Refuge Complex, P.O. Box 457, Ridgefield, WA 98642, telephone (360) 887-4106 Ext. 11126, email eric_anderson@fws.gov.

SUPPLEMENTARY INFORMATION: This notice is published as part of the National Park Service's administrative responsibilities under NAGPRA. The determinations in this notice are the sole responsibility of the Ridgefield National Wildlife Refuge Complex, and additional information on the determinations in this notice, including the results of consultation, can be found in its inventory or related records. The National Park Service is not responsible for the determinations in this notice.

Abstract of Information Available

Based on the information available, human remains representing, at least, one individual has been reasonably identified. The 166 associated funerary objects are trade beads. The individual and the trade beads were excavated and collected in 1984 by Historical Research Associates, Inc. from the Wapato Portage (45-CL-4) site on Ridgefield National Wildlife Refuge. The items are curated at Portland State University (PSU). In 2021, the collection was reanalyzed, and the individual was identified co-mingled with non-human faunal bone. In addition, according to Native American traditional knowledge for this region, trade beads were commonly used as funerary objects.

Cultural Affiliation

Based on the information available and the results of consultation, cultural affiliation is reasonably identified by the geographical location or acquisition history of the human remains and associated funerary objects described in this notice.

Determinations

The Ridgefield National Wildlife Refuge Complex has determined that:

• The human remains described in this notice represent the physical remains of one individual of Native American ancestry.

• The 166 objects described in this notice are reasonably believed to have been placed intentionally with or near individual human remains at the time of death or later as part of the death rite or ceremony.

• There is a connection between the human remains and associated funerary objects described in this notice and the Confederated Tribes of the Grand Ronde Community of Oregon and the Cowlitz Indian Tribe.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after May 19, 2025. If competing requests for repatriation are received, the Ridgefield National Wildlife Refuge Complex must determine the most appropriate requestor prior to repatriation. Requests for joint repatriation of the human remains and associated funerary objects are considered a single request and not competing requests. The Ridgefield National Wildlife Refuge Complex is responsible for sending a copy of this notice to the Indian Tribes and Native Hawaiian organizations identified in this notice.

Authority: Native American Graves Protection and Repatriation Act, 25 U.S.C. 3003, and the implementing regulations, 43 CFR 10.10.

Dated: April 8, 2025.
Melanie O'Brien,
Manager, National NAGPRA Program.

[FR Doc. 2025-06649 Filed 4-17-25; 8:45 am]

BILLING CODE 4312-52-P